INTERNATIONAL TRADE COMMISSION

[USITC SE-01-016]

Sunshine Act Meeting

AGENCY HOLDING THE MEETING: United States International Trade Commission.

TIME AND DATE: May 3, 2001 at 11 a.m.

PLACE: Room 101, 500 E Street SW., Washington, DC 20436 Telephone: (202) 205-2000.

STATUS: Open to the public.

MATTERS TO BE CONSIDERED: 1. Agenda for future meeting: none.

2. Minutes.

3. Ratification List.

4. Inv. No. 731-TA-702 (Review) (Ferrovanadium and Nitrided Vanadium from Russia)—briefing and vote. (The Commission is currently scheduled to transmit its determination and Commissioners' opinions to the Secretary of Commerce on May 15, 2001.)

5. Inv. No. 731-TA-888-890 (Final) (Stainless Steel Angle from Japan, Korea, and Spain)—briefing and vote. (The Commission is currently scheduled to transmit its determination and Commissioners' opinions to the Secretary of Commerce on May 11, 2001.)

6. Outstanding action jackets: none.

In accordance with Commission policy, subject matter listed above, not disposed of at the scheduled meeting, may be carried over to the agenda of the following meeting.

By order of the Commission:
Issued: April 24, 2001.
Donna R. Koehnke,
Secretary.

[FR Doc. 01-10509 Filed 4-24-01; 12:59 pm]

BILLING CODE 7020-02-P